DEPARTMENT OF STATE

[Public Notice: 12255]

Notice of Meeting of Advisory Committee on International Law

AGENCY: Advisory Committee on International Law.

ACTION: Notice of open meeting.

SUMMARY: A meeting of the Department of State's Advisory Committee on International Law (“ACIL”) will take place on December 1, 2023, from 9 a.m. to 3:15 p.m. Acting Legal Adviser Richard C. Visek will chair the meeting, which will be open to the public up to the capacity of the meeting room. The meeting will include discussions on international law topics. These topics include: Special Tribunal for the Crime of Aggression against Ukraine; the International Law Commission's proposals on “General Principles of Law;” and new horizons for legal diplomacy in investment and trade, human rights, and climate change.

ADDRESSES: George Washington University Law School, Faculty Conference Center, 716 20th St. NW, 5th Floor, Washington, DC.

FOR FURTHER INFORMATION CONTACT: Tara M. Rangchi, Office of the Legal Adviser, at rangchitm@state.gov or 202-240-1662.

SUPPLEMENTARY INFORMATION: Members of the public who wish to attend should contact Tara Rangchi by November 24, 2023, and provide their name, professional affiliation (if any), email address, and phone number. Priority for in-person seating will be given to members of the Advisory Committee, and remaining seating will be reserved based upon when persons contact the Office of the Legal Adviser. Individuals who wish to attend virtually may request a link to the virtual meeting platform. Attendees who require reasonable accommodation should make their requests by November 24, 2023. Requests received after that date will be considered but might not be possible to accommodate.

(Authority: 5 U.S.C. 1009 and 41 CFR 102-3.150.)

Tara M. Rangchi,
Executive Director, Advisory Committee on International Law, Department of State.

[FR Doc. 2023-24558 Filed 11-6-23; 8:45 am]

BILLING CODE 4710-08-P